DEPARTMENT OF DEFENSE

Department of the Army

Availability of Patents for Exclusive, Partially Exclusive or Nonexclusive Licenses

AGENCY: U.S. Army Soldier and Biological Chemical Command, U.S. Army, DoD.

ACTION: Notice.

SUMMARY: The Department of the Army announces the general availability of exclusive, partially exclusive, or nonexclusive licenses under the following patents that are listed in the SUPPLEMENTARY INFORMATION paragraph. Any licenses granted shall comply with 35 U.S.C. 209 and 37 CFR part 404.

FOR FURTHER INFORMATION CONTACT: Mr. Robert Rosenkrans at U.S. Army Soldier and Biological Chemical Command, Kansas Street, Natick, MA 01760, Phone; (508) 233-4928 or E-mail: Robert.Rosenkrans@natick.army.mil .

SUPPLEMENTARY INFORMATION: The following Patent Numbers, title and issue dates are provided:

Patent Number: 5,538,583.

Title: Method of Manufacturing a Laminated Textile Substrate for a Body Heating or Cooling Garment.

Issue Date: July 23, 1996.

Patent Number: 5,320,164.

Title: Body Heating or Cooling Garment.

Issue Date: June 14, 1994.

Gregory D. Showalter,
Army Federal Register Liaison Officer.

[FR Doc. 00-29085 Filed 11-13-00; 8:45 am]

BILLING CODE 3710-08-P